INTERNATIONAL TRADE COMMISSION

[Inv. No. 337-TA-450]

In the Matter of: Certain Integrated Circuits, Processes for Making Same, and Products Containing Same; Notice of Commission Decision Not To Review an Initial Determination Granting Complainants' Motion for Summary Determination on Importation

AGENCY: U.S. International Trade Commission.

ACTION: Corrected notice.

SUMMARY: Notice is hereby given that the U.S. International Trade Commission has determined not to review an initial determination (“ID”) issued by the presiding administrative law judge (ALJ) in the above-captioned investigation on November 2, 2001, granting a motion of complainants' United Microelectronics Corporation, UMC Group (USA), and United Foundry Service, Inc. for summary determination on importation.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on March 6, 2001. The complainants are United Microelectronics Corporation of Hsinchu City, Taiwan; UMC Group (USA) of Sunnyvale, California; and United Foundry Service, Inc. of Hopewell Junction, New York. The respondents are Silicon Integrated Systems Corp. of Hsinchu City, Taiwan; and Silicon Integrated Systems Corporation of Sunnyvale, California. 66 FR 13567 (2001).

On September 13, 2001, complainants filed a motion for summary determination on respondents' first affirmative defense of lack of importation. On September 25, 2001, respondents filed a cross-motion for summary determination on lack of importation. On the same day, the Commission investigative attorney (“IA”) filed his response in support of complainants' motion.

On October 5, 2001, complainants filed a memorandum in opposition to respondents' cross-motion for summary determination on lack of importation and a reply memorandum in support of complainants' motion for summary determination. On the same day, the IA filed his response in opposition to respondents' cross-motion for summary determination.

On October 23, 2001, complainants filed a motion for leave to file a supplemental memorandum in support of their motion, which was granted. On October 25, 2001, respondents 2 filed a response to complainants' motion for supplemental memorandum.

On November 2, 2001, the ALJ granted complainants' motion for summary determination and denied respondents' motion for summary determination. On November 8, 2001, respondents filed petition for review of the ID. On November 16, 2001, complainants and the IA filed responses in opposition to respondents' petition.

The authority for the Commission's determination is contained in section 337 of the Tariff Act of 1930, as amended (19 U.S.C. 1337), and in § 210.42 of the Commission's rules of practice and procedure (19 CFR 210.42).

Issued: December 5, 2001.
By order of the Commission.
Donna R. Koehnke,
Secretary.

[FR Doc. 01-30505 Filed 12-10-01; 8:45 am]

BILLING CODE 7020-02-P